DEPARTMENT OF STATE

[Public Notice 3889]

Fine Arts Committee; Meeting

The Fine Arts Committee of the Department of State will meet on Friday, April 12, 2002 at 2:00 p.m. in the Diplomatic Reception Rooms. The meeting will last until approximately 3:30 p.m. and is open to the public.

The agenda for the committee meeting will include a summary of the work of the Fine Arts Office since its last meeting on November 16, 2001 and the announcement of gifts and loans of furnishings as well as financial contributions from January 1, 200l through December 31, 2001. Public access to the Department of State is strictly controlled. Members of the public wishing to take part in the meeting should telephone the Fine Arts Office by April 1, 2002, telephone (202) 647-1990 to make arrangements to enter the building. The public may take part in the discussion as long as time permits and at the discretion of the chairman.

Dated: February 28, 2002.
Gail F. Serfaty,
Secretary, Fine Arts Committee, Department of State.

[FR Doc. 02-5913 Filed 3-11-02; 8:45 am]

BILLING CODE 4710-35-P